Title 3—

The President

Proclamation 8229 of April 1, 2008

Cancer Control Month, 2008

By the President of the United States of America

A Proclamation

During Cancer Control Month, we honor cancer victims and survivors, raise awareness of the impact cancer has on our citizens, and underscore our commitment to battling this deadly disease.

Cancer is the second-leading cause of death in the United States, and we remain committed to making the medical advances necessary to prevent and treat this disease. Scientists and medical professionals have made great progress in developing innovative treatments, improving diagnostic tools, and increasing our understanding of cancer. These advances have helped people with cancer live longer, healthier lives.

All Americans can reduce their risk of developing cancer by following healthy eating habits, exercising regularly, avoiding tobacco and excessive use of alcohol, and controlling their weight. By scheduling regular physicals, getting preventive health screenings, and being aware of their family history, individuals who do develop cancer can increase the likelihood that it will be discovered at an earlier and more treatable stage. I encourage all our citizens to talk to their doctors and learn more about preventive measures that can save lives.

My Administration remains dedicated to finding a cure for cancer. Since 2005, the Cancer Genome Atlas has played a role in advancing cancer research, and it is helping scientists learn more about the genetic sources of cancer. We continue to support the innovative advances needed to bring hope to those affected, and we will continue to fight cancer.

As we observe Cancer Control Month, we honor cancer survivors for their determination, courage, and strength, and we remember those who lost their valiant fight against cancer. Their stories are an inspiration to all Americans. We also recognize medical professionals, researchers, family members, and friends who help support cancer patients. Their efforts improve the quality of life for those suffering from cancer, and their compassion embodies the true spirit of our Nation.

The Congress of the United States, by joint resolution approved March 28, 1938 (52 Stat. 148; 36 U.S.C. 103), as amended, has requested the President to issue an annual proclamation declaring April as “Cancer Control Month.”

NOW, THEREFORE, I, GEORGE W. BUSH, President of the United States of America, do hereby proclaim April 2008 as Cancer Control Month. I encourage citizens, government agencies, private businesses, nonprofit organizations, and other interested groups to join in activities that raise awareness about how all Americans can prevent and control cancer.

IN WITNESS WHEREOF, I have hereunto set my hand this first day of April, in the year of our Lord two thousand eight, and of the Independence of the United States of America the two hundred and thirty-second.

[FR Doc. 08-1098

Filed 4-2-08; 9:03 am]

Billing code 3195-01-P